DEPARTMENT OF THE TREASURY

Internal Revenue Service

26 CFR Part 1

[REG-101258-08]

RIN 1545-BH66

Guidance Under Sections 642 and 643 (Income Ordering Rules); Correction

AGENCY: Internal Revenue Service (IRS), Treasury.

ACTION: Correction to notice of proposed rulemaking.

SUMMARY: This document contains corrections to a notice of proposed rulemaking (REG-101258-08) that was published in the Federal Register on Wednesday, June 18, 2008 (73 FR 34670) providing guidance under Internal Revenue Code section 642(c) with regard to the Federal tax consequences of an ordering provision in a trust, a will, or a provision of local law that attempts to determine the tax character of the amounts paid to a charitable beneficiary of the trust or estate. The proposed regulations also make conforming amendments to the regulations under section 643(a)(5). The proposed regulations affect estates, charitable lead trusts (CLTs) and other trusts making payments or permanently setting aside amounts for a charitable purpose.

FOR FURTHER INFORMATION CONTACT: Vishal Amin at (202) 622-3060 (not a toll-free number).

SUPPLEMENTARY INFORMATION:

Background

The correction notice that is the subject of this document is under sections 642 and 643 of the Internal Revenue Code.

Need for Correction

As published, the notice of proposed rulemaking (REG-101258-08) contains errors that may prove to be misleading and are in need of clarification.

Correction of Publication

Accordingly, the publication of the notice of proposed rulemaking (REG-101258-08), which was the subject of FR Doc. E8-13611, is corrected as follows:

1. On page 34671, column 1, in the preamble, under the paragraph heading

“Explanation of Provisions”, first paragraph, line 19, the language “proposed regulation will amend the” is corrected to read “proposed regulations will amend the”.

2. On page 34671, column 2, in the preamble, under the paragraph heading

“Explanation of Provisions”, first paragraph of the column, line 3, the language “unrelated business tax income and tax-” is corrected to read “unrelated business taxable income and tax-”.

3. On page 34671, column 2, in the preamble, under the paragraph heading

“Explanation of Provisions”, first paragraph of the column, line 22, the language “independent of the income tax” is corrected to read “independent of income tax”.

§ 1.642(c)-3 [Corrected]

4. On page 34672, column 1, § 1.642(c)-3, paragraph 2., first entry of the amendatory instructions, the language “Revising the paragraph heading of paragraph (b) and add a heading to paragraph (b)(1).” is corrected to read “Revising the paragraph heading of paragraph (b) and adding a heading to paragraph (b)(1).”.

LaNita Van Dyke,
Chief, Publications and Regulations Branch, Legal Processing Division, Associate Chief Counsel, (Procedure and Administration).

[FR Doc. E8-16178 Filed 7-15-08; 8:45 am]

BILLING CODE 4830-01-P